DEPARTMENT OF STATE

[Public Notice 4307]

Shipping Coordinating Committee; Notice of Meeting

The Shipping Coordinating Committee (SHC) will conduct an open meeting at 9:30 a.m. on Tuesday, May 20, 2003, in Room 2415, at U.S. Coast Guard Headquarters, 2100 Second Street, SW., Washington, DC. The purpose of the meeting is for members of the SHC to discuss and decide upon changes to the SHC charter regarding SHC subcommittee structure. The proposed change to the subcommittee structure is described below.

The SHC has presently established six subcommittees, the Subcommittee for the Prevention of Marine Pollution, the Subcommittee on Safety of Life at Sea, the Maritime Law Subcommittee, the Subcommittee on Tonnage and Measurement, the Subcommittee on the United Nations Conference on Trade and Development (UNCTAD) and the Subcommittee on Ocean Dumping. This subcommittee structure was established at the time of the original SHC charter in 1958, and has not been amended since the mid-1970's. The Subcommittees on Tonnage Measurement and UNCTAD have not met in over 10 years. The primary focus of the SHC is to assist in the development of and receive public input on U.S. negotiating positions at the International Maritime Organization (IMO) and on various international instruments (i.e., treaties, conventions and protocols) administered by the IMO. Over the last 15 years, the IMO has added a number of committees and subcommittees, whose functions are not directly addressed by the current subcommittees contained in the SHC Charter.

At this meeting SHC members will be asked to discuss and decide whether to:

1. Disestablish the Subcommittee on Tonnage and Measurement and the Subcommittee on UNCTAD.

2. Establish the following new subcommittees:

a. The Subcommittee on IMO Administration and Budgeting. The purpose of the subcommittee would be to ascertain views and make recommendations consistent with paragraphs (1) and (2) of Article I of the SHC Charter for matters before the IMO Assembly and Council.

b. The Subcommittee on IMO Technical Cooperation. The purpose of the subcommittee would be to ascertain views and make recommendations consistent with paragraphs (1) and (2) of Article I of the SHC Charter for matters before the IMO Technical Cooperation Committee.

c. The Subcommittee on Facilitation. The purpose of the subcommittee would be to ascertain views and make recommendations consistent with paragraphs (1) and (2) of Article I of the SHC Charter in regards to United States participation in the Convention on Facilitation of International Maritime Traffic, 1965, and for matters before the IMO Facilitation Committee.

d. The Subcommittee on the Carriage of Bulk Liquids and Gases. The purpose of the subcommittee would be to ascertain views and make recommendations consistent with paragraphs (1) and (2) of Article I of the SHC Charter for matters before the IMO Bulk Liquids and Gases Subcommittee.

e. The Subcommittee on Ship Design and Equipment. The purpose of the subcommittee would be to ascertain views and make recommendations consistent with paragraphs (1) and (2) of Article I of the SHC Charter for matters before the IMO Design and Equipment Subcommittee.

f. The Subcommittee on Dangerous Goods, Solid Cargos and Containers. The purpose of the subcommittee would be to ascertain views and make recommendations consistent with paragraphs (1) and (2) of Article I of the SHC Charter for matters before the IMO Dangerous Goods, Solid Cargos and Containers Subcommittee.

g. The Subcommittee on Radio Communications and Search and Rescue. The purpose of the subcommittee would be to ascertain views and make recommendations consistent with paragraphs (1) and (2) of Article I of the SHC Charter regarding United States participation in the International Convention on Maritime Search and Rescue, 1979 and for matters before the IMO Radio Communications and Search and Rescue Subcommittee.

h. The Subcommittee on Fire Protection. The purpose of the subcommittee would be to ascertain views and make recommendations consistent with paragraphs (1) and (2) of Article I of the SHC Charter for matters before the IMO Fire Protection Subcommittee.

i. The Subcommittee on Flag State Implementation. The purpose of the subcommittee would be to ascertain views and make recommendations consistent with paragraphs (1) and (2) of Article I of the SHC Charter for matters before the IMO Flag State Implementation Subcommittee.

j. The Subcommittee on the Safety of Navigation. The purpose of the subcommittee would be to ascertain views and make recommendations consistent with paragraphs (1) and (2) of Article I of the SHC Charter for matters before the IMO Safety of Navigation Subcommittee.

k. The Subcommittee on Stability, Load Lines and Fishing Vessel Safety. The purpose of the subcommittee would be to ascertain views and make recommendations consistent with paragraphs (1) and (2) of Article I of the SHC Charter regarding United States participation in the International Convention on Load Lines, 1966, the International Convention on Tonnage Measurement, 1969 and for matters before the IMO Subcommittee on Stability and Loadlines and on Fishing Vessels Safety.

l. The Subcommittee on Standards of Training, Certification and Watchkeeping. The purpose of the subcommittee would be to ascertain views and make recommendations consistent with paragraphs (1) and (2) of Article I of the SHC Charter regarding United States participation in the International Convention on Standards of Training, Certification and Watchkeeping for Seafarers, 1978 and for matters before the IMO Standards for Training and Watchkeeping Subcommittee.

3. Designate the head of the United States delegation to the relevant IMO committee or subcommittee as the chairperson of the subcommittee with cognizance over that IMO committee or subcommittee.

Members of the public may attend this meeting up to the seating capacity of the room. Interested persons may seek information by writing: Commander Frederick J. Kenney, Executive Secretary, Shipping Coordinating Committee, U.S. Department of State (OES/OA), Room 5805, 2201 C Street, NW., Washington, DC 20520, by e-mailing kenneyfj@state.gov, or by calling 202-647-3946.

Dated: May 1, 2003.
Frederick J. Kenney,
Executive Secretary, Shipping Coordinating Committee, Department of State.

[FR Doc. 03-11607 Filed 5-8-03; 8:45 am]

BILLING CODE 4710-07-P